SURFACE TRANSPORTATION BOARD

Notice of OMB Approval of Information Collections

AGENCY: Surface Transportation Board.

ACTION: Notice of OMB approval.

SUMMARY: The Office of Management and Budget (OMB) has approved certain Surface Transportation Board (Board or STB) information collections under the Paperwork Reduction Act. This notice lists the approved information collections and provides their OMB control numbers and current expiration dates.

FOR FURTHER INFORMATION CONTACT: Michael Higgins, Deputy Director, Office of Public Assistance, Governmental Affairs (OPAGAC), and Compliance, at (202) 245-0284 or michael.higgins@stb.gov. Assistance for the hearing impaired is available through the Federal Relay Service at (800) 877-8339. You may also direct questions to Chris Oehrle, PRA Officer, Surface Transportation Board, 395 E Street SW, Washington, DC 20423-0001 and to PRA@stb.gov.

SUPPLEMENTARY INFORMATION: The Paperwork Reduction Act of 1995 (PRA) (44 U.S.C. 3501 et seq.) and its implementing regulations require federal agencies, after receiving OMB approval of information collections, to display and publicize OMB control numbers. In accordance with those requirements, the Board hereby notifies the public that the following information collections, which are published in the Board's regulations, have been approved by OMB.

• OMB Control Number 2140-0003, System Diagram Maps. The expiration date for this information collection required by 49 CFR 1152.10-1152.13 is April 30, 2023.

• OMB Control Number 2140-0020, Arbitration Option Notices. The expiration date for this information collection required by 49 CFR part 1108 is April 30, 2023.

• OMB Control Number 2140-0022, Preservation of Rail Service. The expiration date for this information collection required by 49 CFR part 1151 and 49 CFR 1152.27-1152.29 is February 28, 2023.

• OMB Control Number 2140-0024, Agricultural Contract Summaries. The expiration date for this information collection required by 49 CFR part 1313 is April 30, 2023.

• OMB Control Number 2140-0025, Recordation of Liens. The expiration date for this information collection required by 49 CFR part 1177 is April 30, 2023.

• OMB Control Number 2140-0026, Water Carrier Tariffs. The expiration date for this information collection required by 49 CFR part 1312 is April 30, 2023.

• OMB Control Number 2140-0029, Complaints. The expiration date for this information collection contained in 49 FR part1 111 is August 31, 2023.

• OMB Control Number 2140-0030, Catch-all Petitions. The expiration date for this information collection contained in 49 CFR part 1117 is August 31, 2023.

• OMB Control Number 2140-0031, Petitions for Declaratory Order. The expiration date for this information collection allowed under 5 U.S.C. 554(e) and 49 U.S.C. 721 is August 31, 2023.

• OMB Control Number 2140-0036, Dispute Resolution Procedures. The expiration date for this information collection contained in 49 CFR part 1109 is August 31, 2023.

Publication of this notice satisfies the requirement that the Board “display” OMB control numbers with respect to the above-listed information collections, as provided in 5 CFR 1320.5(b)(2)(ii).

Dated: October 5, 2020.
Tammy Lowery,
Clearance Clerk.

[FR Doc. 2020-22374 Filed 10-8-20; 8:45 am]

BILLING CODE 4915-01-P